Executive Order 14384 of February 6, 2026

Modifying Duties To Address Threats to the United States by the Government of the Russian Federation

By the authority vested in me as President by the Constitution and the laws of the United States of America, including the International Emergency Economic Powers Act (50 U.S.C. 1701 et seq.) (IEEPA), the National Emergencies Act (50 U.S.C. 1601 et seq.), section 604 of the Trade Act of 1974, as amended (19 U.S.C. 2483), and section 301 of title 3, United States Code, I hereby determine and order:

Section 1. Background. Executive Order 14066 of March 8, 2022 (Prohibiting Certain Imports and New Investments With Respect to Continued Russian Federation Efforts To Undermine the Sovereignty and Territorial Integrity of Ukraine), expanded the scope of the national emergency declared in Executive Order 14024 of April 15, 2021 (Blocking Property With Respect To Specified Harmful Foreign Activities of the Government of the Russian Federation), to include the actions taken against Ukraine by the Government of the Russian Federation. To address that unusual and extraordinary threat to the national security and foreign policy of the United States, Executive Order 14066 prohibited, among other things, the importation into the United States of certain products of Russian Federation origin, including crude oil; petroleum; and petroleum fuels, oils, and products of their distillation.

In Executive Order 14329 of August 6, 2025 (Addressing Threats to the United States by the Government of the Russian Federation), I found that the national emergency described in Executive Order 14066 has continued and that the actions and policies of the Government of the Russian Federation continue to pose an unusual and extraordinary threat to the national security and foreign policy of the United States. To deal with that threat, I determined that it was necessary and appropriate to impose an additional ad valorem rate of duty of 25 percent on imports of articles of India, which, at that time, was directly or indirectly importing Russian Federation oil.

I have received additional information and recommendations from senior officials regarding India's efforts to address the national emergency described in Executive Order 14066. Specifically, India has committed to stop directly or indirectly importing Russian Federation oil, has represented that it will purchase United States energy products from the United States, and has recently committed to a framework with the United States to expand defense cooperation over the next 10 years.

After considering the information and recommendations these officials have provided to me, among other things, I have determined that India has taken significant steps to address the national emergency described in Executive Order 14066 and to align sufficiently with the United States on national security, foreign policy, and economic matters. Accordingly, I have determined to eliminate the additional ad valorem rate of duty imposed on imports of articles of India pursuant to Executive Order 14329. In my judgment, this modification is necessary and appropriate to deal with the national emergency declared in Executive Order 14066.

Sec. 2. Tariff Modifications. Effective with respect to goods entered for consumption, or withdrawn from the warehouse for consumption, on or after 12:01 a.m. eastern standard time on February 7, 2026, products of India imported into the United States shall no longer be subject to the additional ad valorem rate of duty of 25 percent imposed pursuant to Executive Order 14329. Accordingly, effective 12:01 a.m. eastern standard time on February 7, 2026, headings 9903.01.84 through 9903.01.89 and subdivision (z) of U.S. Note 2 to subchapter III of chapter 99 of the Harmonized Tariff Schedule of the United States are hereby terminated. To the extent that implementation of this order requires a refund of duties collected, refunds shall be processed pursuant to applicable law and the standard procedures of U.S. Customs and Border Protection for such refunds.

Sec. 3. Implementation. (a) The Secretary of State, in consultation with the Secretary of the Treasury, the Secretary of Commerce, the Secretary of Homeland Security, the United States Trade Representative, the Assistant to the President for National Security Affairs, the Assistant to the President for Economic Policy, and the Assistant to the President and Senior Counselor for Trade and Manufacturing, is hereby authorized to take such actions, including adopting rules and regulations, and to employ all powers granted to the President by IEEPA as may be necessary to implement this order. The Secretary of State may, consistent with applicable law, redelegate any of these functions within the Department of State. Each executive department and agency shall take all appropriate measures within its authority to carry out this order.

(b) The Secretary of Homeland Security, in consultation with the United States International Trade Commission, shall determine whether modifications to the Harmonized Tariff Schedule of the United States are necessary to effectuate this order and may make such modifications through notice in the Federal Register.

Sec. 4. Monitoring and Recommendations. The Secretary of Commerce, in coordination with the Secretary of State, the Secretary of the Treasury, and any other senior official the Secretary of Commerce deems appropriate, shall monitor whether India resumes directly or indirectly importing Russian Federation oil, as defined in section 7 of Executive Order 14329. If the Secretary of Commerce finds that India has resumed directly or indirectly importing Russian Federation oil, the Secretary of State, in consultation with the Secretary of the Treasury, the Secretary of Commerce, the Secretary of Homeland Security, the United States Trade Representative, the Assistant to the President for National Security Affairs, the Assistant to the President for Economic Policy, and the Assistant to the President and Senior Counselor for Trade and Manufacturing, shall recommend whether and to what extent I should take additional action as to India, including whether I should reimpose the additional ad valorem rate of duty of 25 percent on imports of articles of India.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of State.

THE WHITE HOUSE,

February 6, 2026.

[FR Doc. 2026-02818

Filed 2-10-26; 11:15 am]

Billing code 4710-05-P